FEDERAL RESERVE SYSTEM

Federal Open Market Committee; Domestic Policy Directive of March 18, 2003

In accordance with § 271.25 of its rules regarding availability of information (12 CFR part 271), there is set forth below the domestic policy directive issued by the Federal Open Market Committee at its meeting held on March 18, 2003.¹

¹ Copies of the Minutes of the Federal Open Market Committee meeting on March 18, 2003, which includes the domestic policy directive issued at the meeting, are available upon request to the Board of Governors of the Federal Reserve System, Washington, D.C. 20551. The minutes are published in the Federal Reserve Bulletin and in the Board's annual report.

The Federal Open Market Committee seeks monetary and financial conditions that will foster price stability and promote sustainable growth in output. To further its long-run objectives, the Committee in the immediate future seeks conditions in reserve markets consistent with maintaining the federal funds rate at an average of around 1¼ percent.

By order of the Federal Open Market Committee, May 13, 2003.

Vincent R. Reinhart,
Secretary, Federal Open Market Committee.

[FR Doc. 03-12393 Filed 5-16-03; 8:45 am]

BILLING CODE 6210-01-S